DEPARTMENT OF AGRICULTURE

Forest Service

Beartooth Ranger District, Custer Gallatin National Forest; Carbon County, Montana; Greater Red Lodge Vegetation and Habitat Management Project

AGENCY: Forest Service, USDA.

ACTION: Notice; intent to prepare environmental impact statement.

SUMMARY: The Greater Red Lodge Project is proposed to (1) reduce hazardous fuels; (2) maintain and/or improve resiliency of forest vegetation and grasslands; (3) enhance aspen habitat; and (4) improve water quality. The EIS will consider a no action alternative and three action alternatives that propose treatment on 1000-2000 acres depending upon the alternative. The project area encompasses approximately 21,871 acres north and west of the community of Red Lodge, Carbon County, MT in the vicinity of Red Lodge Creek (10,275 acres) and Nichols/Willow Creek (11,596 acres). The project area is designated Wildland Urban Interface (WUI) in the Carbon County Wildfire Protection Plan, and may be considered a transition zone between developed areas and Inventoried Roadless and the Absaroka-Beartooth Wilderness. The Nichols Creek portion of the project area is part of the West Fork Municipal Watershed for the community of Red Lodge. Proposed treatment consists of a variety of thinning (including post and pole/teepee pole collection), clearcuts ranging from one half acre to 40 acres in size, hand cutting and mechanical treatment of small diameter vegetation, and broadcast and pile burning to meet the purpose and need. The action alternatives also include reconstruction of Nichols Creek Road to reduce sedimentation into Nichol Creek, road reconstruction and maintenance of existing roads, approximately 4 miles of road decommissioning, and 5 to 7.4 miles of temporary road construction depending upon alternative. A site specific Forest Plan amendment may be needed to address effects to Management Indicator Species (MIS) habitat.

DATES: The draft environmental impact statement is planned to be released in April 2014 and the final environmental impact statement and draft decision is planned for release in July 2014. The project was initially released for public scoping June 14, 2012 and February 22, 2013.

ADDRESSES: Comments are not being solicited at this time because of earlier scoping efforts. However, written comments may be sent to Amy Waring, Custer Gallatin National Forest, 1310 Main Street, Billings, MT 59105. Comments may also be sent via email to: comments-northern-custer-beartooth@fs.fed.us, or via facsimile to 406-255-1499.

FOR FURTHER INFORMATION CONTACT: Amy Waring, Team Leader, at (406) 255-1451.

Individuals who use telecommunication devices for the deaf (TDD) may call the Federal Information Relay Service (FIRS) at 1-800-877-8339 between 8 a.m. and 8 p.m., Eastern Time, Monday through Friday.

SUPPLEMENTARY INFORMATION:

Purpose and Need for Action

The Greater Red Lodge Project is proposed to respond to goals and objectives in the Forest Plan for the Custer Gallatin National Forest, national direction for ecological restoration and resilience (Forest Service Manual 2020.2), and the Northern Region Integrated Restoration and Protection Strategy. The purpose of proposed management actions includes:

1. Reduce Hazardous Fuels

• Reduce high-intensity wildfire within the Wildland Urban Interface (WUI) as identified in the Carbon County Community Wildfire Fire Protection Plan.

• Provide for a safer environment for the public and firefighters should a wildfire occur within the proposed treatment areas.

• To provide wildfire managers more suppression options to confine future wildfires from spreading beyond NFS lands.

The project area is located in wildland urban interface, and is capable of supporting high intensity wildfires which presents a risk to public and firefighter safety. In this transition zone, social considerations play a large part in how vegetation is managed. Wildfires will continue to be suppressed due to the proximity to private lands, homes, ranches, and other infrastructure, and risk to public safety. Fire hazard can be reduced through strategic treatments that consist of thinning to increase crown spacing or clearcutting conifer stands to spatially break up contiguous stands, reducing surface fuel loads by mechanical cleanup and/or prescribed fire, and maintaining grassland openings through mechanical treatment and broadcast burning.

2. Maintain/Improve Resiliency of Forest Vegetation and Grasslands

• Improve and/or maintain the general health, resiliency, and sustainability of forested stands and grasslands.

• Reduce the risk of epidemic insect and disease infestations within the project area.

Resiliency to disturbances may be improved by increasing the diversity of species (including aspen, limber pine and ponderosa pine), and increasing age class diversity (including regeneration of lodgepole pine, promoting large diameter Douglas fir stands, and variable densities of vegetation to reduce susceptibility to insect and disease infestations). Silvicultural treatments may slow or accelerate the pace of natural succession and reduce susceptibility and vulnerability from large disturbance events including wildfire and insect and disease epidemics. Increased landscape heterogeneity and pattern diversity may ameliorate the effects of large scale disturbances.

3. Enhance Aspen Habitat

• Provide for regeneration of aspen stands declining in health.

• Stimulate growth in aspen communities declining in health and/or abundance.

• Reduce conifer colonization in mixed aspen-conifer stands.

Aspen is relatively rare in the Beartooth Mountains compared to conifer trees, and many aspen communities are either progressively converting to a dominance of lodgepole pine or Douglas fir, or are declining in health and/or abundance. Without disturbance, heavily conifer-colonized and aging aspen stands will eventually die and be lost from the landscape. Fire suppression will continue within the WUI, which will result in continued conifer colonization and additional declines in health and/or abundance of aspen stands. Treatments such as prescribed fire and mechanical treatment would increase the acreage of healthy aspen communities, leading to increased vegetation diversity, a potential rise in wildlife abundance, and reduced loss of aspen genetic diversity.

4. Improve Water Quality

• Reduce sediment delivery to Nichols Creek, thereby improving water quality and aquatic habitat in the West Fork Municipal Watershed.

• Decommission roads identified in the 2008 Beartooth Travel Management Decision as “system roads, not needed.”

• Perform maintenance and reconstruction of existing system roads to reduce sources of sediment.

Nichols Creek Road has been poorly maintained and is contributing sediment to Nichols Creek, which is part of Red Lodge's municipal watershed. Reconstruction of Nichols Creek Road would reduce sediment delivery to Nichols Creek, provide for log haul and post and pole/teepee pole collection, accommodate future recreation needs, and management of the National Forest. Additional road decommissioning and maintenance/reconstruction of existing roads in the project area would further reduce sources of sediment and improve water quality.

Proposed Action

The proposed action includes the following components:

• Vegetative treatments on approximately 1990 acres of NFS lands within the project area, including approximately 1211 acres of commercial timber harvest (a combination of thinning, clearcuts, and post and pole/teepee pole collection) and 779 acres of mechanical/hand noncommercial treatment, including 565 acres of broadcast burning.

• Slash treated through a combination of the following: whole tree yarding, lop and scatter, masticating, and/or excavator piling. Fuel accumulations at landings are addressed through burning, chipping/masticating, and/or removal from NFS lands. Prescribed fire treatments include broadcast burning or pile burning.

• Treatment units accessed through an estimated 7.4 miles of temporary road construction and 9.3 miles of road easements across private (about 1.1 mile) and Montana Department of Natural Resources and Conservation (MTDNRC) lands (about 8.2 miles).

• Road decommissioning proposed on an estimated 3.5 miles of NFS roads. Road maintenance proposed on an estimated 6.3 miles of NFS roads. Road reconstruction proposed on an estimated 6 miles of NFS roads, including replacement of an aquatic barrier culvert with a bridge on the 2141 Red Lodge Creek Road. Best Management Practices (BMPs) implemented on haul routes to meet Timber Sale Requirements.

• Changing the road classification on an estimated 1.11 miles of existing roads currently classified as “system road not needed” to Maintenance Level 1 and .039 mile from “system not needed” to Maintenance Level 2 to provide for future management needs. These roads would be closed to public motorized use.

• Reconstruct about 1.25 miles of Nichols Creek Road to abate erosion problems (thereby improving water quality), accommodate log haul, post and pole/teepee pole collection, future recreation needs, and long-term National Forest management. The road prism would be approximately 12 feet wide and ditched and/or 14 feet wide and out sloped for drainage depending upon site conditions. Road gradient would be reduced to a maximum of 12 percent, and road drainage would be installed at a maximum of every 200 feet per Montanan State BMP Guidelines. The road would be opened to motorized use for about five years with timing restrictions for timber harvest and collection of post and poles and teepee poles. After timber management activities are completed, the route would be closed to public motorized use, and retained for non-motorized recreation. The road would remain designated as a Maintenance Level 2 Road by the Forest Service, which would accommodate any future management needs.

• Harvest activity within Riparian Areas will be conducted in compliance with Montana Streamside Management Zone (SMZ) regulations. The Forest Service will seek an Alternative Practices waiver on up to 33 acres for hand thinning, lop and scattering the slash, and broadcast burning within SMZs. Broadcast burning in the SMZ would be avoided (no active lighting unless necessary for control measures to cleanup fuel pockets). Fire would be allowed to creep into the SMZ and self-extinguish or be mopped up when convenient. Some temporary road locations may be needed to cross streams.

• All activities comply with the Grizzly Bear Conservation Strategy and Lynx Management Direction.

Possible Alternatives

In addition to No Action (Alternative 1) and the Proposed Action (Alternative 2), the Draft EIS will consider two additional action alternatives that were developed in response to public comments made during the scoping comment period. Both of these alternatives reduce the size and scope of proposed treatment compared to the proposed action. Compared to the proposed action, Alternative 3 reduces the amount of treatment by about 300 acres, and Alternative 4 reduces the amount of treatment by about 1000 acres.

Alternative 3 proposes treatment on 1706 acres (927 acres commercial, 779 acres noncommercial). It includes 4 acres of noncommercial treatment in Inventoried Roadless, which would be accessed by an existing road. Treatment would involve hand cutting small diameter lodgepole pine by chainsaws and lopping and scattering the slash to increase tree spacing, which will improve growth and vigor of the stand and reduce fire hazard. Compared to the proposed action, Alternative 3 adds more No Treatment “skips” in between treated areas to maintain wildlife habitat, and drops or modifies proposed treatment units based on perceived impacts to wildlife, water quality, and scenery.

Alternative 4 proposes treatment on 1054 acres (670 acres commercial, 384 acres noncommercial). Alternative 4 also responds to public comment to avoid log haul as much as possible on the NFSR 21415 road which is an important recreational route for some members of the public, and proposes alternative temporary road access instead.

Alternatives 3 and 4 both reconstruct about 1.25 miles of Nichols Creek Road to reduce sedimentation into Nichols Creek (a municipal watershed), but the road would not be reconstructed to accommodate log haul or post and pole/teepee pole collection. Vegetation treatments along Nichols Creek are dropped under Alternatives 3 and 4.

Under all action alternatives, commercial harvest would be accomplished via tractor logging and whole tree yarding during the summer under dry soil conditions, or in the winter on frozen ground or over snow. Noncommercial treatment would be done by hand (chainsaws) or mechanically, and may include pile or broadcast burning. All action alternatives require various levels of temporary road construction (about 7.4, 6.7, and 5 miles for Alternatives 2, 3, and 4 respectively), and about 6 miles of road maintenance, 6 miles road reconstruction, and 4 miles of road decommissioning. No road construction or maintenance would occur in Inventoried Roadless.

Forest Plan Amendment

The Custer Forest Plan standard for Management Indicator Species (MIS) is to maintain and improve the habitat. The northern goshawk is MIS for old growth forest. Two occupied goshawk nest sites are present in the project area, located on Forest Service lands in close proximity to lands managed by the State of Montana Department of Natural Resources and Conservation (MT DNRC). NEPA requires analysis of past, present, and reasonably foreseeable future actions that could contribute to cumulative effects. That state of Montana recently approved a decision to harvest state lands adjacent to the Greater Red Lodge Project Area, which will include clearcutting nest and post fledgling area (PFA) habitat. The Greater Red Lodge Project proposes a relatively small amount of treatment in PFA habitat, but does not propose treatment in the nest stands. The cumulative effects to these two goshawk territories may include short term effects that may not fully be consistent with the Forest Plan standard to “maintain and improve” habitat. Therefore a site specific Forest Plan Amendment is being considered to acknowledge that there may be effects to old growth species under all action alternatives.

No Action Alternative

The No Action alternative represents the existing condition in the Greater Red Lodge Project Area. Under this alternative, none of the activities proposed for the Greater Red Lodge Project would occur. Ongoing activities, such as recreation, public firewood gathering, fire suppression, and normal road maintenance would continue.

No treatment does not mean that the forest will stay the same as it is now. Forests are dynamic ever-changing biological systems that experience and respond to catastrophic events such as fire, wind storms, and insects and disease, and continually grow, develop, mature, die, and start anew. As forest succession proceeds, aspen stands, open meadows, and riparian areas will continue to be colonized by conifers. In the absence of wildfire or vegetation treatments, the diversity of forest vegetation and stand structure in the project area will likely become more homogenous, with increases in understory ladder fuels. As existing stands age or deteriorate as part of natural succession, increased susceptibility to insect attacks, disease, windthrow, or competition mortality will occur. Stands will continue to experience increasing surface fuel loads and, when combined with already tight crown spacing, will be more capable of supporting high intensity wildfires. Under the no action alternative, no treatment would occur in the wildland urban interface. Predicted fire behavior under typical large fire development conditions could preclude wildfire suppression operations during initial attack. Ingress and egress for firefighting and emergency equipment and personnel, as well as residents and visitors become difficult under this scenario. Furthermore, high intensity fire behavior due to existing vegetation conditions in the wildland urban interface could limit suppression options, increasing the threat to nearby values at risk both on and off national forest lands.

Responsible Official

The Responsible Official is Mary C. Erickson, Forest Supervisor, Custer Gallatin National Forest, 1310 Main Street, Billings, MT 59105.

Nature of Decision To Be Made

Based on the purpose and need for the proposed action, the Responsible Official will determine whether to proceed with the action as proposed, as modified by another alternative or not at all. If an action alternative is selected, the Responsible Official will determine what design features, mitigation measures and monitoring to require.

Preliminary Issues

The Interdisciplinary Team reviewed scoping comments and identified significant issues that led to the development of alternatives to the proposed action, and analysis issues. Significant issues included (1) concerns about the size and scale of the project and the cumulative effect of the Greater Red Lodge Project and the MT DNRC Palisades Timber Sale, (2) concerns about impacts to wildlife habitat for mature forest species, (3) concerns about impacts to scenery, (4) concerns about impacts to recreation and transportation, and (5) a myriad of issues related to reconstruction of Nichols Creek Road, including water quality, economics, and cultural resources.

Additionally, the EIS will consider a number of analysis issues to evaluate how the purpose and need for action will be met (including changes to wildfire and beetle hazards), and impacts to specific resources including, but not limited to Threatened/Endangered Species, big game, water quality, soil productivity, aquatic species, range, noxious weeds, and sensitive plants.

Permits or Licenses Required

The following permits may be required prior to project implementation in order to ensure Federal and State laws are met: (1) Montana Streamside Protection Act (SPA 124 Permit); (2) Federal Clean Water Act (Section 404 Permit); (3) Short-Term Water Quality Standard for Turbidity (318 Authorization); and (4) Alternative Practices Waiver from MT DNRC to remove trees in a streamside management zone to maintain wet meadows.

Scoping Process

The Beartooth District provided information to the public and asked for comments in 2012 and 2013, and provided numerous opportunities for public input as the proposed action and alternatives were developed. On June 14, 2012, the District scoped a preliminary purpose/need and general proposed action (i.e. unit boundaries identified, but treatments not assigned), and conducted a public field trip and meeting on June 28, 2012. As a result, the purpose and need was refined and clarified, and comments were considered as the proposed action was developed.

On February 22, 2013, the District scoped a detailed purpose and need and proposed action, and received about 36 comments. A public meeting was held on March 14, 2013, and field trips were held on June 6 and 28, 2013. The Forest Service also participated in numerous other meetings to discuss the project. As alternatives to the proposed action were developed, the District held additional field trips and reviewed draft alternatives with the public to provide information, discuss issues of concern, provide an opportunity for the public to interact with resource specialists, and provide an additional opportunity for people to provide comments on the alternatives before they were finalized. Throughout this process, the district also met with local government and interest groups to share information.

Comments Requested

Given that scoping and public meetings have been conducted, comments are not being requested at this time. The Draft EIS will be published in April 2014 and include a 45-day comment period.

Dated: February 4, 2014.
Mary C. Erickson,
Forest Supervisor.

[FR Doc. 2014-02918 Filed 2-10-14; 8:45 am]

BILLING CODE 3411-15-P